DEPARTMENT OF THE INTERIOR

Bureau of Land Management

[UT-050-1430-DB-24-1A]

Notice of intent to Amend the Mountain Valley Management Framework Plan

AGENCY: Bureau of Land Management, Interior.

ACTION: Notice of Intent to amend the Mountain Valley Management Framework Plan and prepare an environmental assessment.

SUMMARY: This Notice of Intent is to advise the public that the Utah Richfield Field Office, Bureau of Land Management (BLM) intends to consider a proposal which would require amending an existing planning document.

The BLM is proposing to amend the Mountain Valley Management Framework Plan which includes public lands in Sevier County, Utah. The purpose of the amendment would be to identify certain lands as suitable for direct sale pursuant to Section 203 of the Federal Land Policy and Management Act of 1976. The lands under consideration for being identified for direct sale comprise 440.85 acres described as follows: T. 22 S., R. 1 W., SLB&M, Section 1, Lots 1-4, S½N½, N½SW¼, SW¼SW¼.

DATES: The comment period for this proposed plan amendment will commence with publication of this notice. Comments must be made within 30 days of this publication in the Federal Register.

ADDRESSES: Comments on the proposed plan amendment should be sent to Jerry Meredith, Acting Richfield Manager, 150 East 900 North, Richfield, Utah 84701. Comments, including names and address of respondents will be available for public review at the BLM Richfield Field Office and may be published as part of the Environmental Assessment and other related documents. Individual respondents may request confidentiality. If you wish to withhold your name or street address from public review and disclosure under the Freedom of Information Act, you must state this prominently at the beginning of your written request. Such requests will be honored to the extent allowed by law. All submissions from organizations and businesses, and from individuals identifying themselves as representatives or officials of organizations or businesses, will be made available for public inspection in their entirety.

FOR FURTHER INFORMATION CONTACT: Jerry Meredith, Acting Richfield Field Office Manager,150 East 900 North, Richfield, Utah 84701. Existing planning documents and information are available at the above address or telephone (801) 896-1500.

SUPPLEMENTARY INFORMATION: The existing plan does not identify these lands for disposal. However, because of the resource values and public values and objectives involved, the public interest may well be served by sale of these lands. An environmental assessment will be prepared by an interdisciplinary team to analyze the impacts of this proposal and alternatives.

Dated: March 29, 2002.
Robert A. Bennett,
Acting State Director.

[FR Doc. 02-11434 Filed 5-7-02; 8:45 am]

BILLING CODE 4310-$$-P